NUCLEAR REGULATORY COMMISSION

[NRC-2009-0107]

Draft Regulatory Guide: Issuance, Availability

AGENCY: Nuclear Regulatory Commission.

ACTION: Notice of issuance and availability of Draft Regulatory Guide, DG-1204.

FOR FURTHER INFORMATION CONTACT: James Gaslevic, U.S. Nuclear Regulatory Commission, Washington, DC 20555-0001, telephone: (301) 415-2776 or e-mail to James.Gaslevic@nrc.gov.

SUPPLEMENTARY INFORMATION:

I. Introduction

The U.S. Nuclear Regulatory Commission (NRC) is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), entitled, “Guidance for ITAAC Closure under 10 CFR Part 52,” is temporarily identified by its task number, DG-1204, which should be mentioned in all related correspondence. DG-1204 describes a method that the staff of the NRC considers acceptable for use in satisfying the requirements for documenting the completion of inspections, tests, analyses, and acceptance criteria (ITAAC). In particular, DG-1204 endorses the provisions in the industry guidance document Nuclear Energy Institute (NEI) 08-01, “Industry Guideline for the ITAAC Closure Process Under 10 CFR Part 52,” Revision 3, issued December 2008, for the implementation of Title 10, § 52.99, “Inspection during construction,” of the Code of Federal Regulations (10 CFR 52.99). In 10 CFR 52.99, the NRC included requirements for the process of documenting and reporting satisfaction of the acceptance criteria for each ITAAC listed in the combined license (COL) and accompanying design certification.

The objectives of DG-1204 are to provide guidance to help licensees make notifications to the NRC for completed and uncompleted ITAAC. The NRC uses these notifications for inspection planning and public hearing purposes. DG-1204 describes methods that the NRC staff considers acceptable for licensees to use for documenting and reporting the satisfactory completion of the acceptance criteria for each ITAAC listed in the COL and accompanying design certification. DG-1204, through its endorsement of an industry guidance document for licensees, provides guidance on complying with the requirements of 10 CFR 52.99.

II. Further Information

The NRC staff is soliciting comments on DG-1204. Comments may be accompanied by relevant information or supporting data and should mention DG-1204 in the subject line. Comments submitted in writing or in electronic form will be made available to the public in their entirety through the NRC's Agencywide Documents Access and Management System (ADAMS).

Personal information will not be removed from your comments. You may submit comments by any of the following methods:

1. Mail comments to: Rulemaking, Directives, and Editing Branch, Office of Administration, U.S. Nuclear Regulatory Commission, Washington, DC 20555-0001.

2. E-mail comments to: nrcrep.resource@nrc.gov

3. Fax comments to: Rulemaking, Directives, and Editing Branch, Office of Administration, U.S. Nuclear Regulatory Commission at (301) 492-3446.

Requests for technical information about DG-1204 may be directed to the NRC contact, James Gaslevic at (301) 415-2776 or e-mail to James.Gaslevic@nrc.gov.

Comments would be most helpful if received by May 13, 2009. Comments received after that date will be considered if it is practical to do so, but the NRC is able to ensure consideration only for comments received on or before this date. Although a time limit is given, comments and suggestions in connection with items for inclusion in guides currently being developed or improvements in all published guides are encouraged at any time.

Electronic copies of DG-1204 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML082960039.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 5th day of March, 2009.
For the Nuclear Regulatory Commission.
Andrea D. Valentin,
Chief, Regulatory Guide Development Branch, Division of Engineering, Office of Nuclear Regulatory Research.

[FR Doc. E9-5358 Filed 3-11-09; 8:45 am]

BILLING CODE 7590-01-P